ENVIRONMENTAL PROTECTION AGENCY

[EPA-HQ-OPP-2021-0081; FRL-10022-00]

Eastern Research Group, Inc.; Transfer of Data (March 2021)

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Eastern Research Group, Inc. in accordance with the CBI regulations. Eastern Research Group, Inc. has been awarded a contract to perform work for OPP, and access to this information will enable Eastern Research Group, Inc. to fulfill the obligations of the contract.

DATES: Eastern Research Group, Inc. will be given access to this information on or before March 30, 2021.

FOR FURTHER INFORMATION CONTACT: William Northern, Information Technology and Resources Management Division (7502P), Office of Pesticide Programs, Environmental Protection Agency, 1200 Pennsylvania Ave. NW, Washington, DC 20460-0001; telephone number: (703) 305-6478 email address: northern.william@epa.gov.

SUPPLEMENTARY INFORMATION:

I. Does this action apply to me?

This action applies to the public in general. As such, the Agency has not attempted to describe all the specific entities that may be affected by this action.

II. Contractor Requirements

Under these contract numbers, the contractor will perform the following:

Under Contract No. 68HERC21D0007. The Contractor shall prepare and deliver reports, including plans, evaluations, studies, analyses, and manuals in accordance with Attachment 1—Performance Work Statement. Each report shall cite the contract number, identify the U.S. Environmental Protection Agency as the sponsoring agency, and identify the name of the Contractor preparing the report.

This contract involves no subcontractors.

OPP has determined that the contract described in this notice involve work that is being conducted in connection with FIFRA, in that pesticide chemicals will be the subject of certain evaluations to be made under this contract. These evaluations may be used in subsequent regulatory decisions under FIFRA.

Some of this information may be entitled to confidential treatment. The information has been submitted to EPA under FIFRA sections 3, 4, 6, and 7 and under FFDCA sections 408 and 409.

In accordance with the requirements of 40 CFR 2.307(h)(3), the contract with Eastern Research Group, Inc. prohibits use of the information for any purpose not specified in these contract; prohibits disclosure of the information to a third party without prior written approval from the Agency; and requires that each official and employee of the contractor sign an agreement to protect the information from unauthorized release and to handle it in accordance with the FIFRA Information Security Manual. In addition, Eastern Research Group, Inc. is required to submit for EPA approval a security plan under which any CBI will be secured and protected against unauthorized release or compromise. No information will be provided to Eastern Research Group, Inc. until the requirements in this document have been fully satisfied. Records of information provided to Eastern Research Group, Inc. will be maintained by EPA Project Officers for this contract. All information supplied to Eastern Research Group, Inc. by EPA for use in connection with this contract will be returned to EPA when Eastern Research Group, Inc. has completed its work.

Authority: 7 U.S.C. 136 et seq.; 21 U.S.C. 301 et seq.

Dated: March 19, 2021.
Delores Barber,
Director, Information Technology and Resources Management Division, Office of Program Support.

[FR Doc. 2021-06173 Filed 3-24-21; 8:45 am]

BILLING CODE 6560-50-P